INTERNATIONAL TRADE COMMISSION

[Investigation No. 332-579]

Lobsters: Effects of the Canada-EU Trade Agreement on the U.S. Industry Termination of Investigation

AGENCY: United States International Trade Commission.

ACTION: Notice of termination of investigation.

SUMMARY: Pursuant to a letter from the U.S. Trade Representative (USTR) received on December 23, 2020, withdrawing his request of July 29, 2020 that the Commission conduct an investigation and prepare a report that details any negative effects of the Comprehensive Economic and Trade Agreement between Canada and the European Union on the United States lobster industry, the Commission has terminated Investigation No. 332-579: Lobsters: Effects of the Canada-EU Trade Agreement on the U.S. Industry, and will not release a report.

The USTR requested the investigation and report under authority delegated by the President and pursuant to section 332(g) of the Tariff Act of 1930. In his letter withdrawing the request, the USTR stated that the European Union's recent removal of tariffs on imported lobsters eliminated the need for a report analyzing any disadvantages to the U.S. lobster industry caused by the prior agreement between Canada and the European Union.

DATES:

July 29, 2020: Receipt of request for the investigation.

October 1, 2020: Public hearing.

December 23, 2020: Receipt of request to terminate the investigation.

[Publication in Federal Register]: Termination of investigation.

FOR FURTHER INFORMATION CONTACT: Project Leader Christopher Robinson (202-205-2602 or christopher.robinson@usitc.gov) or Deputy Project Leader Amelia Shister (202-205-2047 or amelia.shister@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its internet server (http://www.usitc.gov). Persons with mobility impairments who will need special assistance in gaining access to the Commission should contact the Office of the Secretary at 202-205-2000.

By order of the Commission.
Issued: January 8, 2021.
Lisa Barton,
Secretary to the Commission.

[FR Doc. 2021-00567 Filed 1-12-21; 8:45 am]

BILLING CODE 7020-02-P